DEPARTMENT OF THE TREASURY

Fiscal Service

Financial Management Service; Electronic Authentication Policy; Correction

AGENCY: Financial Management Service, Fiscal Service, Treasury.

ACTION: Notice of publication of policies and practices for the use of electronic transactions and authentication techniques in Federal payments and collections; correction.

SUMMARY: Financial Management Service published a document in the Federal Register of January 3, 2001 concerning Treasury's Electronic Authentication Policy. The document is being corrected to insert a sentence.

FOR FURTHER INFORMATION CONTACT: Gary Grippo, Director, Electronic Commerce, Financial Management Service, Department of the Treasury, 401 14th Street, S.W., Washington, DC 20227. (202) 874-6816, gary.grippo@fms.treas.gov.

Correction

In the Federal Register of January 3, 2001, in FR Doc. 01-79, on page 394, under the “Scope” caption, in the third column, first full paragraph, correct the paragraph to read:

Focus is also placed on the use of public key cryptographic techniques, which can provide for robust electronic authentication, and on the manner in which Federal agencies must go about obtaining public key digital certificates for payment, collection, and collateral transactions. (It should be noted that in establishing such guidance, our intent is not necessarily to dictate that a particular certification authority provider be used, but rather to try to follow a general principal that offers agencies some choice, particularly where commercial certification authorities must be relied upon. Specifically, it is our intent to foster a competitive environment that would allow agencies to have some choice when obtaining cryptographic credentials for collections as covered by this policy.) In addition to public key cryptography, the policy covers other forms of remote electronic authentication and electronic signatures, including but not limited to knowledge-based authentication (Personal Identification Numbers (PINs) and passwords) and biometrics.

Dated: January 26, 2001.
Richard L. Gregg,
Commissioner.

[FR Doc. 01-2857 Filed 2-1-01; 8:45 am]

BILLING CODE 4810-35-M